DEPARTMENT OF COMMERCE

Foreign-Trade Zones Board [Order No. 1229]

Approval of Manufacturing Authority, Foreign-Trade Zone 40, HMI Industries, Inc. (High Filtration Vacuum and Air Cleaners), Cleveland, OH

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, on behalf of HMI Industries, Inc., has requested authority to manufacture vacuum and air cleaners under FTZ procedures within FTZ 40-Site 8;

Whereas, notice inviting public comment has been given in the Federal Register (66 FR 41499, 8/8/01);

Whereas, the Board adopts the findings and recommendations of the examiner's report, and finds that the requirements of the FTZ Act and the Board's regulations are satisfied, and that approval of the request is in the public interest;

Now, therefore, the Board hereby orders:

The application on behalf of HMI Industries, Inc., to manufacture vacuum and air cleaners under zone procedures within FTZ 40—Site 8, is approved, subject to the FTZ Act and the Board's regulations, including Section 400.28.

Signed at Washington, DC, this 17th day of May 2002.
Faryar Shirzad,
Assistant Secretary of Commerce for Import Administration, Alternate Chairman, Foreign-Trade Zones Board.
Attest:
Dennis Puccinelli,
Executive Secretary.

[FR Doc. 02-13394 Filed 5-28-02; 8:45 am]

BILLING CODE 3510-DS-P